DEPARTMENT OF THE INTERIOR

National Park Service

Chesapeake and Ohio Canal National Historical Park; Notice of Public Meeting

AGENCY: Department of the Interior, National Park Service, Chesapeake and Ohio Canal National Historical Park.

ACTION: Notice of meeting.

SUMMARY: Notice is hereby given that a meeting of the Chesapeake and Ohio National Historical Park Advisory Commission will be held at 9:30 a.m., on Friday, October 19, 2007, at the Chesapeake and Ohio Canal National Historical Park Headquarters, 1850 Dual Highway, Hagerstown, MD 21740.

DATES: Friday, October 19, 2007.

ADDRESSES: Chesapeake and Ohio Canal National Historical Park Headquarters, 1850 Dual Highway, Hagerstown, MD 21740.

FOR FURTHER INFORMATION CONTACT: Kevin Brandt, Superintendent, Chesapeake and Ohio Canal National Historical Park, 1850 Dual Highway, Suite 100, Hagerstown, MD 21740, telephone: (301) 714-2201.

SUPPLEMENTARY INFORMATION: The Commission was established by Public Law 91-664 to meet and consult with the Secretary of the Interior on general policies and specific matters related to the administration and development of the Chesapeake and Ohio Canal National Historical Park.

The Members of the Commission are as follows:

Mrs. Sheila Rabb Weidenfeld, Chairperson.

Mr. Charles J. Weir.

Mr. James G. McCleaf, II.

Mr. Barry A. Passet.

Mr. John A. Ziegler.

Mrs. Mary E. Woodward.

Mrs. Donna Printz.

Mrs. Ferial S. Bishop.

Ms. Nancy C. Long.

Mrs. Jo Reynolds.

Dr. James H. Gilford.

Brother James Kirkpatrick.

Ms. Mary Ann D. Moen.

Dr. George E. Lewis, Jr.

Mr. Charles D. McElrath.

Ms. Patricia Schooley.

Mr. Jack Reeder.

Ms. Merrily Pierce.

Topics that will be presented during the meeting include:

1. Update on park operations.

2. Update on major construction/development projects.

3. Update on partnership projects.

4. Subcommittee Reports.

The meeting will be open to the public. Any member of the public may file with the Commission a written statement concerning the matters to be discussed. Persons wishing further information concerning this meeting, or who wish to submit written statements, may contact Kevin Brandt, Superintendent, Chesapeake and Ohio Canal National Historical Park. Minutes of the meeting will be available for public inspection six weeks after the meeting at Chesapeake and Ohio Canal National Historical Park Headquarters, 1850 Dual Highway, Suite 100, Hagerstown, MD 21740.

Dated: June 26, 2007.
Kevin D. Brandt,
Superintendent, Chesapeake and Ohio Canal National Historical Park.

[FR Doc. 07-4079 Filed 8-20-07; 8:45 am]

BILLING CODE 4310-6V-M